DEPARTMENT OF TRANSPORTATION

Federal Railroad Administration

[FRA Emergency Order No. 21, Notice No. 4]

Northwestern Pacific Railroad Co.; Notice of Partial Relief from Emergency Order No. 21

AGENCY: Federal Railroad Administration (FRA), Department of Transportation (DOT).

ACTION: Notice of partial relief.

SUMMARY: In response to a November 11, 2010, petition, this notice provides partial relief for the Northwestern Pacific Railroad Co. (NWP Co.) from the limitations of FRA Emergency Order No. 21. The relief allows the NWP Co. to re-open to rail traffic approximately 61.1 miles of trackage owned by Sonoma Marin Area Rail Transit (SMART) ¹ extending between (1) a point designated as Brazos Junction, milepost (MP) B49.8 and the Ignacio Wye, MP 5-25.8 and (2) a point designated as MP 62.9 near Windsor, California. Emergency Order No. 21 remains in effect between MP 62.9 near Windsor, California and MP 295.5 at Arcata, California, except for the partial relief from Emergency Order No. 21 that FRA granted in Emergency Order No. 21, Notice 2, for approximately 1.5 miles of track and certain yard track in Willits, California.

¹ On January 1, 2003, SMART was formed as an entity that was formally comprised of the Golden Gate Bridge, Highway and Transportation District, Marin County, and the Northwestern Railroad Authority.

Authority

Authority to enforce Federal railroad safety laws has been delegated by the Secretary of Transportation to the Administrator of FRA. See 49 U.S.C. 103; 49 CFR 1.49. FRA is authorized to issue emergency orders where an unsafe condition or practice “causes an emergency situation involving a hazard of death, personal injury or significant harm to the environment. * * *” 49 U.S.C. 20104(a). These orders may impose such “restrictions and prohibitions * * * that may be necessary to abate the situation.” Id. Likewise, FRA is authorized to grant relief from an emergency order when the agency deems that the unsafe condition or practice that gave rise to the emergency order no longer exists.

Background on Emergency Order No. 21

On November 25, 1998, FRA issued Emergency Order No. 21, Notice No. 1 addressed to “the Northwestern Pacific Railroad,” requiring it to—

discontinue operation by anyone of trains on [that railroad's] rail line from mile post 295.5 at Arcata, California to mile post 63.4 between Schellville, California and Napa Junction, California until the [railroad] inspects and properly repairs its track and grade crossing signals, and it trains its employees how to properly maintain the safety of its track and grade crossing signals.

63 FR 67976 (Dec. 9, 1998). The only exception to the prohibition on train operations over that rail line was for “the operation of work trains for the specific and sole purpose of effecting repairs on the railroad.” 63 FR 67978.

On May 28, 1999, FRA granted the petition of the Northwestern Pacific Railway Company, LLC (NWPY) ² for partial relief from Emergency Order No. 21 for approximately 1.5 miles of track owned by the North Coast Railroad Authority (NCRA) ³ near Willits, California, including trackage between the junction of the California Western Railroad and the Willits Depot, as well as Tracks 20, 24, 25, 26, 27, 709, and 711 in Willits Yard. Emergency Order No. 21, Notice No. 2, 64 FR 30557 (June 8, 1999).

² In Emergency Order 21, Notices No. 1-3, Northwestern Pacific Railway Company, LLC was referred to as “Northwestern Pacific Railroad” and “NWP”; however, the correct name of the railroad was “Northwestern Pacific Railway Company, LLC,” and was more commonly referred to as “NWPY” in the railroad industry.

³ The North Coast Railroad Authority is “a California public agency formed pursuant to California Government Code Section 93000 et seq.,” that “owns and operates that portion of the NWP between Healdsburg, mile post 68, and Arcata.” 64 FR 30557.

On February 1, 2001, FRA granted NWPY's petition for partial relief from Emergency Order No. 21 for approximately 40.8 miles of track, owned by Northwestern Pacific Railroad Authority, a joint powers agency representing the Golden Gate Bridge, Highway and Transportation District, the County of Marin, and NCRA, between MP 49.8S (formerly designated as MP 63.4, near Lombard, California) and MP 43.0, near Petaluma, California. Emergency Order No. 21, Notice No. 3, 66 FR 9625 (Feb. 8, 2001).⁴ NWPY ceased operations in September 2001.

⁴ The November 11, 2010, request by NWP Co. and the NCRA for partial relief includes the track for which relief was granted on February 1, 2001.

Standard for Obtaining Full Relief From Emergency Order No. 21

In order to gain full relief from Emergency Order No. 21, NWP Co. must take the following actions, which were specified in that order:

(1) Properly repair and inspect all grade crossing signals and certify to the FRA Administrator that all necessary repairs and inspections have been performed and that all required tests are up-to-date.

(2) Adopt a set of grade crossing signal standards and instructions acceptable by FRA. * * *

(3) Update, correct and/or redraw circuit plans for each the grade crossing signal system to meet compliance with 49 CFR 234.201 and 234.203. A list of locations of the updated, corrected or redrawn circuit plans shall be submitted to the Regional Administrator for Region 7.

(4) Provide proper and adequate test equipment for signal maintainers.

(5) Repair all track not subject to Emergency Order No. 14 to Class 1 track standards as detailed in 49 CFR part 213. [Note: Emergency Order No. 14 already requires the Northwestern Pacific Railroad to repair all track subject to that order to class 1 track standards for the hauling of passengers and all hazardous materials. Otherwise, the railroad may designate the track still subject to that order as excepted.]

(6) Clear all vegetation from drainage facilities and away from signs and signals and track bed so that the track meets the requirements of 49 CFR 213.37.

(7) Furnish FRA with a 12-month track maintenance plan.* * *

(8) Establish a program of employee training on the Federal Track Standards to ensure that employees performing inspection, maintenance, and restoration work are qualified in accordance with 49 CFR 213.7. * * *

(9) Certify in writing that each individual conducting track inspections has sufficient knowledge, skills, and ability to successfully conduct the types of inspections that will be performed by that individual. Records of that certification are to be maintained by the railroad.

(10) Obtain written approval from the FRA Administrator that all of the requirements of this Emergency Order have been met and properly performed. * * *

63 FR 67978-67979.

Emergency Order No. 21, Notice No. 1, allows for partial relief for designated portions of the trackage subject to the Emergency Order. The railroad is first required to meet all of the system-wide requirements, as listed in Items 2, 4, 7, 8, and 9, above. The railroad may then obtain from FRA partial relief for any portion of the line for which all of the requirements of the Emergency Order are met. 63 FR 67979.

November 11, 2010, Request for Partial Relief From Emergency Order No. 21

By letter dated November 11, 2010, in accordance with the terms of Emergency Order No. 21, Notice No. 1, NWP Co. and the NCRA ⁵ formally requested that FRA grant partial relief from the Emergency Order for the SMART-owned rail line between (1) a point designated as Brazos Junction, milepost MP B49.8 and the Ignacio Wye, MP 5-25.8 and (2) a point designated as MP 62.9 near Windsor, California.

⁵ North Coast Railroad Authority is the owner of a perpetual, exclusive freight easement over the trackage involved in the request. On September 13, 2006, NWP Co. was formed and entered into a lease agreement with the NCRA as the sole operator of all freight trains, work trains, and passenger excursion trains over the line. NWP Co. is also designated as the company that will manage and maintain freight railroad operations over the NCRA and SMART properties.

In this letter, NWP Co and NCRA, represented to FRA that it has met all of the system-wide requirements of Emergency Order No. 21, namely—

• NWP Co. has adopted a set of grade crossing signal standards and instructions that is acceptable to FRA;

• NWP Co. has entered into a contract with Summit Signal, Inc., a signal maintenance company, for the maintenance of NWP Co. signals. NWP Co. has provided proper and adequate test equipment for all signal maintainers;

• NWP Co. has furnished to FRA a 12-month track maintenance plan that includes all of the necessary information required by Emergency Order No. 21;

• NWP Co. has furnished to FRA a copy of the employee training program on the Federal Track Safety Standards;

• NWP Co. has certified, in writing, that each individual conducting track inspections has sufficient knowledge, skills, and ability to successfully conduct the types of inspections that will be performed by that individual.

FRA has verified these representations and determined that NWP Co. is in compliance at this time with the system-wide requirements; therefore, NWP Co. is eligible to request partial relief for the designated segment between (1) Brazos Junction, milepost MP B49.8 and the Ignacio Wye, MP 5-25.8 and (2) MP 62.9 near Windsor, California. FRA will monitor the railroad to determine whether it continues to comply with these system-wide requirements.

During the week of January 3, 2011, FRA inspected the track for which the NWP Co. has requested relief from Emergency Order No. 21 in its November 11, 2010, letter. The track inspection revealed certain FRA Class 1 defective conditions, which were reviewed and discussed with representatives of NWP Co. the same week. A follow-up inspection was conducted on January 6, 2011, and FRA determined that NWP Co. had corrected the defective track conditions that were identified on the main track and siding.

During the week of January 3, 2011, FRA also inspected the grade crossing signal systems on the track for which NWP Co. requested relief from Emergency Order No. 21 and found that not all necessary repairs, inspections, and tests had been performed. During the week of January 31, 2011, FRA conducted a follow-up inspection and determined that NWP Co. had corrected the defective grade crossing signal systems conditions and that all grade crossing signal systems on the track segment for which NWP Co. is seeking relief are in compliance with FRA regulations.

Grant of Partial Relief

In light of the foregoing, I grant NWP Co. partial relief from Emergency Order No. 21. The segment of track owned by SMART extending between (1) a point designated as Brazos Junction, milepost MP B49.8 and the Ignacio Wye, MP 5-25.8 and (2) a point designated as MP 62.9 near Windsor, California, may open immediately to rail traffic. The issuance of this notice of partial relief does not preclude imposition of another emergency order governing the segment of track should conditions of the track or rail operations deteriorate to the extent that I believe they pose an imminent and unacceptable threat to public safety.

Issued in Washington, DC, on May 4, 2011.
Joseph C. Szabo,
Administrator, Federal Railroad Administration.

[FR Doc. 2011-11272 Filed 5-5-11; 11:15 am]

BILLING CODE 4910-06-P